DEPARTMENT OF COMMERCE

International Trade Administration

North American Free-Trade Agreement, Article 1904; NAFTA Panel Reviews; Notice of Suspension of Extraordinary Challenge Committee

AGENCY: NAFTA Secretariat, United States Section, International Trade Administration, Department of Commerce.

ACTION: Notice of suspension of Extraordinary Challenge Committee to review the binational NAFTA Panel decisions of August 13, 2003; June 7, 2004; Second Remand of December 1, 2004; Third Remand of May 23, 2005; Fourth Remand of October 5, 2005; Fifth Remand of March 17, 2006; and Notice of Final Panel Action of March 28, 2006 in the matter of Certain Softwood Lumber Products from Canada, Final Affirmative Countervailing Duty Determination, Secretariat File No. USA/CDA-2002-1904-03.

SUMMARY: On April 27, 2006, the Office of the United States Trade Representative filed a Request for an Extraordinary Challenge Committee to review decisions as stated above with the United States Section of the NAFTA Secretariat pursuant to Article 1904 of the North American Free Trade Agreement. Committee review was requested of the final affirmative countervailing duty determination made by the International Trade Administration, respecting Certain Softwood Lumber Products From Canada. These determinations were published in the Federal Register. An agreement to suspend the proceedings was filed with the NAFTA Secretariat on May 11, 2006 on behalf of the United States and Canadian Governments. The NAFTA Secretariat Case Number ECC-2006-1904-01USA was assigned to this request.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686).

A Request for an Extraordinary Challenge Committee was filed with the United States Section of the NAFTA Secretariat, pursuant to Article 1904 of the Agreement, on April 27, 2006, requesting panel review of the final affirmative countervailing duty determination as described above. An agreement to suspend the requested ECC was filed on May 11, 2006 on behalf of the United States and Canadian Governments.

Dated: May 12, 2006.
Caratina L. Alston,
U.S. Secretary, NAFTA Secretariat.

[FR Doc. E6-7537 Filed 5-17-06; 8:45 am]

BILLING CODE 3510-GT-P